DEPARTMENT OF DEFENSE

Department of the Army, Corps of Engineers

National Wetland Plant List

AGENCY: U.S. Army Corps of Engineers, DoD.

ACTION: Notice.

SUMMARY: The National Wetland Plant List (NWPL) provides plant species indicator status ratings, which are used in determining whether the hydrophytic vegetation factor is met when conducting wetland delineations under the Clean Water Act and wetland determinations under the Wetland Conservation Provisions of the Food Security Act. Other applications of the NWPL include wetland restoration, establishment, and enhancement projects. To update the NWPL, the U.S. Army Corps of Engineers (USACE), as part of an interagency effort with the U.S. Environmental Protection Agency (EPA), the U.S. Fish and Wildlife Service (FWS), and the U.S. Department of Agriculture Natural Resources Conservation Service (NRCS), is announcing the availability of the proposed changes to the 2022 NWPL and its web address to solicit public comments. The public will now have the opportunity to comment on the proposed changes to wetland indicator status ratings for two plant species in the Arid West (AW) region. In addition, we are accepting comments on the proposal to move from a two-year update cycle to a three-year update cycle for the NWPL. Finally, USACE is seeking comments on the overall NWPL update process.

DATES: Comments must be submitted on or before March 21, 2023.

ADDRESSES: U.S. Army Corps of Engineers, Attn: CECW-CO-R, 441 G Street NW, Washington, DC 20314-1000.

FOR FURTHER INFORMATION CONTACT: Brianne McGuffie, Headquarters, U.S. Army Corps of Engineers, Operations and Regulatory Community of Practice, by phone at 202-761-4750 or by email at brianne.e.mcguffie@usace.army.mil.

SUPPLEMENTARY INFORMATION:

Background

USACE administers the NWPL for the United States (U.S.) and its territories. Responsibility for the NWPL was transferred to USACE from the FWS in 2006. The NWPL has undergone several revisions since its inception in 1988. Additions or deletions to the NWPL represent new records, range extensions, nomenclatural and taxonomic changes, and newly proposed species. The latest review process began in 2022 and included review by Regional Panels (RPs) and the National Panel (NP).

Wetland Indicator Status Ratings

On the NWPL, there are five categories of wetland indicator status ratings used to indicate a plant's likelihood for occurrence in wetlands versus non-wetlands: Obligate Wetland (OBL), Facultative Wetland (FACW), Facultative (FAC), Facultative Upland (FACU), and Upland (UPL). These rating categories are defined by the NP as follows: OBL—almost always occur in wetlands; FACW—usually occur in wetlands, but may occur in non-wetlands; FAC—occur in wetlands and non-wetlands; FACU—usually occur in non-wetlands, but may occur in wetlands; UPL—almost always occur in non-wetlands. These category definitions are qualitative descriptions that better reflect the qualitative supporting information, rather than numeric frequency ranges. The percentage frequency categories used in the older definitions are only used for testing problematic or contested species being recommended for indicator status changes. Plus and minus designations and wetland indicator designations such as No Indicator (NI), No Occurrence (NO), and No Agreement (NA) were removed in 2012 and are no longer used on the NWPL. More information on the specifics of how to use these ratings is available on the NWPL website at https://wetland-plants.sec.usace.army.mil/.

The NWPL is utilized in conducting wetland delineations under the authority of section 404 of the Clean Water Act (33 U.S.C. 1344) and section 10 of the Rivers and Harbors Act of 1899 (33 U.S.C. 401 et seq.) and wetland determinations under the authority of the Food Security Act of 1985 (16 U.S.C. 3801 et seq.). For the purposes of determining how often a species occurs in wetlands, wetlands are defined as either (1) those areas that are inundated or saturated by surface or ground water at a frequency and duration sufficient to support, and that under normal circumstances do support, a prevalence of vegetation typically adapted for life in saturated soil conditions (33 CFR 328.3) or (2) “except when such term is part of the term `converted wetland,' means land that has a predominance of hydric soils; is inundated or saturated by surface or groundwater at a frequency and duration sufficient to support a prevalence of hydrophytic vegetation typically adapted for life in saturated soil conditions; and under normal circumstances does support a prevalence of such vegetation, except that this term does not include lands in Alaska identified as having a high potential for agricultural development and a predominance of permafrost soils.” (16 U.S.C. 3801(a)(27) and 7 CFR 12.2). Because each plant species being evaluated occurs as part of a vegetation assemblage, examining all species present in relation to their assigned wetland fidelity may be useful in assessing hydrophytic vegetation.

2022 Update Information

For the 2022 NWPL update, one wetland indicator status rating change, for Isocoma menziesii, was submitted by the public. In addition, we received a comment in response to the initial Federal Register Notice for the 2020 NWPL Update (Federal Register Notice, 86 FR 15656, March 24, 2021) recommending that the wetland indicator status rating for Populus fremontii be changed from FAC to FACW in the AW. As mentioned in the final Federal Register Notice for the 2020 NWPL Update (Federal Register Notice 86 FR 60449, November 2, 2021), because this species was not proposed for review or a recommended wetland indicator status rating change prior to the initiation of the 2020 NWPL update, we are addressing this species as part of the 2022 NWPL update. The NWPL NP and the AW RP reviewed the submitted information associated with the two proposed changes and determined the proposed 2022 wetland indicator status ratings for these species as shown below.

Species | Region | Current 2020 NWPL rating | Proposed 2022 NWPL rating
Isocoma menziesii | AW | FAC | FACU.
Populus fremontii | AW | FAC | FACW.

On the current 2020 NWPL, Populus fremontii is listed as a synonym of Populus deltoides (i.e., these two species are grouped together as a single species). A synonym is an alternate scientific name that is not the currently valid scientific name and has been changed based on new scientific evidence. Scientific name changes often occur due to lumping two or more formerly separate species into one species or splitting one or more species from an existing species. When either of these circumstances occur, the “new” species may need re-evaluation of their wetland indicator status rating.

In 2017, the USACE, EPA, FWS, and NRCS signed a Memorandum of Agreement (MOA) ¹ that, among other things, required that the NWPL use the nomenclature used in the NRCS PLANTS Database.² In accordance with the MOA, we are changing the nomenclature of Populus fremontii to align with the nomenclature for this species as found in the NRCS PLANTS Database. This change will remove Populus fremontii as a synonym of Populus deltoides, and more appropriately place Populus fremontii on the NWPL as a separate, stand-alone species. Because the wetland indicator status rating for Populus deltoides is FAC, the current wetland indicator status rating for Populus fremontii is also FAC. As part of the 2022 NWPL update, we are proposing to change the wetland indicator status rating of Populus fremontii from FAC to FACW in the AW. This proposed change is specific to Populus fremontii and will not result in a change to the existing wetland indicator status rating for Populus deltoides.

¹ U.S. Army Corps of Engineers, the U.S. Environmental Protection Agency, the U.S. Fish & Wildlife Service and the Natural Resources Conservation Service. (2017). Memorandum of Agreement Among the U.S. Army Corps of Engineers, the U.S. Environmental Protection Agency, the U.S. Fish & Wildlife Service and the Natural Resources Conservation Service for the Purpose of Updating and Maintaining the National Wetland Plant List.

² USDA, NRCS. 2022. The PLANTS Database (http://plants.usda.gov, 08/05/2022). National Plant Data Team, Greensboro, NC USA.

Changing the Frequency of NWPL Updates

When the NWPL was first updated in 2012, updates were to occur annually, with subsequent updates occurring in 2013 and 2014. However, the frequency of the annual updates increased confusion as to which NWPL update was valid at a given time, so the updates moved to biennial updates in 2016. Since that time, the number of proposed changes from the public has gradually decreased. The continued decrease in requests for changes, along with the potential for further reducing confusion as to which NWPL update was valid at a given time, has led us to the current proposal to move to a three-year update cycle, beginning with this 2022 update (i.e., the next update will be in 2025 instead of 2024). We are seeking comments on the proposed change in frequency of NWPL updates or whether we should remain with biennial updates or move to some other update frequency.

Instructions for Providing Comments Online

USACE encourages public input in the form of data, comments, literature references, or field experiences, to help clarify the status of the species reviewed for this update. These same two reviewed species, and their proposed 2022 wetland ratings for the AW region, can be viewed at the NWPL homepage, https://wetland-plants.sec.usace.army.mil/ under “2022 NWPL Update Information.” A link to provide general or species-specific comments in response to this notice is also available at this location. Users are encouraged to submit literature citations, herbaria records, experiential references, monitoring data, and other relevant information. Specific knowledge of, or studies related to, individual species are particularly helpful. When providing input or information on the proposed changes to the 2022 NWPL update, commenters should use their regional botanical and ecological expertise, field observations, reviews of the most recent indicator status information, appropriate botanical literature, floras, herbarium specimens with notation of habitat and associated species, habit data, relevant studies, and historic list information. Providing ratings without supporting documentation or information is not recommended. All submitted comments and information will be compiled and sent to the NWPL NP for their review and consideration.

In addition to requests for comments on the proposed changes to wetland indicator status ratings for two plant species in the AW region as well as the frequency of NWPL updates, USACE is also seeking comments on the overall NWPL update process. Detailed information on the update process, protocol, and technical issues can be found in the following documents, which are available on the “NWPL Publications” web page:

• Lichvar, Robert W. and Paul Minkin. Concepts and Procedures for Updating the National Wetland Plant List. 2008. ERDC/CRREL TN-08-3. Hanover, NH: U.S. Army Engineer Research and Development Center, Cold Regions Research and Engineering Laboratory. https://wetland-plants.sec.usace.army.mil/nwpl_static/data/DOC/NWPL/pubs/2008_Lichvar_Minkin.pdf.

• Lichvar, Robert W. and Jennifer J. Gillrich. Final Protocol for Assigning Wetland Indicator Status Ratings during National Wetland Plant List Update. 2011. ERDC/CRREL TN-11-1. Hanover, NH: U.S. Army Engineer Research and Development Center, Cold Regions Research and Engineering Laboratory. https://wetland-plants.sec.usace.army.mil/nwpl_static/data/DOC/NWPL/pubs/2011v3_Lichvar_Gillrich.pdf.

• Lichvar Robert W., Norman C. Melvin, Mary L. Butterwick, and William N. Kirchner. 2012. National Wetland Plant List Indicator Rating Definitions. ERDC/CRREL TN-12-1. Hanover, NH: U.S. Army Engineer Research and Development, Center Cold Regions Research and Engineering Laboratory. https://wetland-plants.sec.usace.army.mil/nwpl_static/data/DOC/NWPL/pubs/2012b_Lichvar_et_al.pdf.

Future Actions

Future updates to the NWPL will occur on a to-be-determined schedule. A change in indicator status for a given species, or a proposed species addition, may be requested at any time at https://wetland-plants.sec.usace.army.mil/ under “Submit NWPL Change Request.” Submissions throughout the review period will be compiled and reviewed prior to each NWPL update and any resulting proposed changes will be reflected in the subsequent notice of an updated list.

Michael L. Connor,
Assistant Secretary of the Army (Civil Works).

[FR Doc. 2023-01026 Filed 1-19-23; 8:45 am]

BILLING CODE 3720-58-P